DEPARTMENT OF LABOR

Employment and Training Administration

Comment Request for Information Collection for the Senior Community Service Employment Program Performance Measurement System; Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the collection of data for program performance reports, including a customer satisfaction survey, for the Senior Community Service Employment Program (SCSEP). The current expiration date for the Office of Management and Budget's approval of these data collection forms is March 31, 2015.

DATES: Submit written comments to the office listed in the addresses section below on or before January 5, 2015.

ADDRESSES: Send written comments to Jennifer Pirtle, Older Worker Unit, Office of Workforce Investment, Room C4526, Employment and Training Administration, U.S. Department of Labor, 200 Constitution Avenue NW., Washington, DC 20210. Telephone number: 202-693-3045 (this is not a toll-free number). Individuals with hearing or speech impairments may access the telephone number above via TTY by calling the toll-free Federal Information Relay Service at 1-877-889-5627 (TTY/TDD). Fax: 202-693-3015. Email: SCSEP.National@dol.gov. To obtain a copy of the proposed information collection request (ICR), and for further information, please contact the person listed above.

SUPPLEMENTARY INFORMATION:

I. Background

Originally authorized by the Older Americans Act of 1965, the Senior Community Service Employment Program (SCSEP) is funded for approximately $434 million for PY 2014 and will provide over 44,000 positions in which nearly 69,000 low-income persons aged 55 or older will be placed in community service employment.

A slight upward adjustment in burden hours is due to the recent awarding of 14 new discretionary grants (of one year duration), for which we are collecting additional information. We are also including an estimated burden of 2 hours per quarter, per grant, for the quarterly narrative report.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: extension with revisions.

Title: Senior Community Service Employment Program Performance Measurement System.

OMB Number: 1205-0040.

Affected Public: individuals/households, state/local/tribal governments, and the private sector (businesses or other for-profits, and not-for-profit institutions).

Estimated Total Annual Respondents: 72 grantees will respond to grant reports and an additional 22,000 respondents are expected to respond to the customer satisfaction surveys.

Estimated Total Annual Responses: 232,520.

Estimated Total Annual Burden Hours: 32,922.

Total Estimated Annual Other Cost Burden: $0.

We will summarize and/or include in the request for OMB approval of the ICR, the comments received in response to this comment request; they will also become a matter of public record.

Portia Wu,
Assistant Secretary for Employment and Training, Labor.

[FR Doc. 2014-26279 Filed 11-4-14; 8:45 am]

BILLING CODE 4510-FN-P